DEPARTMENT OF TRANSPORTATION

Federal Motor Carrier Safety Administration

[Docket No. FMCSA-2013-0314]

Parts and Accessories Necessary for Safe Operation; Application for an Exemption From Van Hool N.V. and Coach USA

AGENCY: Federal Motor Carrier Safety Administration (FMCSA), DOT.

ACTION: Notice; reopening docket and extension of comment period.

SUMMARY: The Federal Motor Carrier Safety Administration (FMCSA) is reopening and extending the comment period for its notice requesting comments on an application for exemption from Van Hool N.V. and Coach USA (Van Hool/Coach USA) to allow the use of double deck motorcoaches constructed with a sleeper berth that has an exit that does not meet the minimum dimensional requirements specified in the Federal Motor Carrier Safety Regulations (FMCSRs). In its comments responding to the notice, Advocates for Highway and Auto Safety (Advocates) pointed out that the Agency failed to include a copy of the Van Hool/Coach USA application in the docket for public inspection as required by statute and regulation. In response to the Advocates concern, the Agency (1) has placed a copy of the Van Hool/Coach USA application in the docket, (2) is reopening the docket, and (3) is extending the comment period from February 14, 2014 until March 3, 2014.

DATES: Comments must be received on or before March 3, 2014.

ADDRESSES: You may submit comments identified by DOT DMS Docket Number FMCSA-2013-0314 by any of the following methods:

• Web site: http://www.regulations.gov. Follow the instructions for submitting comments on the Federal electronic docket site.

• Fax: 1-202-493-2251.

• Mail: Docket Management Facility, U.S. Department of Transportation, Room W12-140, 1200 New Jersey Avenue SE., Washington, DC 20590-0001.

• Hand Delivery: Ground Floor, Room W12-140, DOT Building, 1200 New Jersey Avenue SE., Washington, DC, between 9 a.m. and 5 p.m. e.t., Monday through Friday, except Federal holidays.

Instructions: All submissions must include the Agency name and docket number for this notice. For detailed instructions on submitting comments and additional information on the exemption process, see the “Public Participation” heading below. Note that all comments received will be posted without change to http://www.regulations.gov, including any personal information provided. Please see the “Privacy Act” heading for further information.

Docket: For access to the docket to read background documents or comments received, go to http://www.regulations.gov or to Room W12-140, DOT Building, 1200 New Jersey Avenue SE., Washington, DC, between 9 a.m. and 5 p.m., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (65 FR 19476) or you may visit http://www.regulations.gov.

Public participation: The http://www.regulations.gov Web site is generally available 24 hours each day, 365 days each year. You can get electronic submission and retrieval help and guidelines under the “help” section of the http://www.regulations.gov Web site and also at the DOT's http://docketsinfo.dot.gov Web site. If you want us to notify you that we received your comments, please include a self addressed, stamped envelope or postcard or print the acknowledgement page that appears after submitting comments online.

FOR FURTHER INFORMATION CONTACT: Mr. Luke W. Loy, Vehicle and Roadside Operations Division, Office of Bus and Truck Standards and Operations, MC-PSV, (202) 366-0676; Federal Motor Carrier Safety Administration, 1200 New Jersey Avenue SE., Washington, DC 20590-0001.

SUPPLEMENTARY INFORMATION: On August 6, 2013 (78 FR 47817), FMCSA published a notice in the Federal Register requesting comments on an application for exemption from Van Hool/Coach USA to allow the use of double deck motorcoaches constructed with a sleeper berth that has an exit that does not meet the minimum dimensional requirements specified in the FMCSRs. The Agency provided a 30-day comment period for the notice with a deadline of September 5, 2013. On September 16, 2013, Advocates noted that the Agency did not provide the public with an opportunity to inspect the information relevant to the application, including the application and any safety analysis provided by the applicant.

The FMCSA has placed the information provided by Van Hool/Coach USA into the docket, and has determined that a 15 day extension of the comment period is appropriate.

In consideration of the above, FMCSA is reopening the comment period for 15 days, from February 14, 2014 to March 3, 2014.

Issued on: February 5, 2014.
Robert W. Miller,
Director of Policy, Strategic Planning, and Regulation.

[FR Doc. 2014-03041 Filed 2-13-14; 8:45 am]

BILLING CODE 4910-EX-P